DEPARTMENT OF THE INTERIOR

Bureau of Land Management

[212.LLAZA01000.L11700000.PH000]

Notice of Temporary Closure on Public Lands in Mohave County, AZ

AGENCY: Bureau of Land Management, Interior.

ACTION: Notice of temporary closure.

SUMMARY: Notice is hereby given of a temporary closure of certain public lands administered by the Arizona Strip Field Office, Bureau of Land Management (BLM).

DATES: This temporary closure will be in effect from June 16 through July 3 in 2021 and 2022.

FOR FURTHER INFORMATION CONTACT: Lorraine Christian, BLM Arizona Strip Field Manager, telephone 435-688-3200; address—BLM, Arizona Strip Field Office, 345 East Riverside Drive, St. George, Utah 84790-6714; email—lmchrist@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Pursuant to 43 CFR 8364.1, the BLM is temporarily closing the Virgin River corridor, including roads and trails which provide access to the river and the Virgin River Canyon Recreation Area, from June 16 to July 3 in 2021 and 2022 to ensure public safety while the Arizona Game and Fish Department (AGFD) conducts a rotenone treatment on the Virgin River to eliminate red shiner, a highly invasive fish. AGFD requested a temporary closure of the affected public lands to provide for the safety of Virgin River users and other public land users by preventing exposure to rotenone and potassium permanganate during the treatment effort.

The closure area is approximately 15 miles long, extending from two miles downstream of the Virgin River Gorge fish barrier up to the Utah/Arizona border. Closure signs will be posted at main entry points to this area. A map of the temporary closure area will be made available on the project website at: https://eplanning.blm.gov/public_projects/1504321/200362749/20033212/250039411/MAP_FRN_Virgin_River_Rotenone_Closure_20210114.pdf. The temporary closure order will be posted in the Arizona Strip District Office at 345 East Riverside Drive, St. George, Utah 84790-6714. Other documents associated with this temporary closure are also available upon request and by appointment at the Arizona Strip District Office.

Under the authority of Section 303(a) of the Federal Land Policy and Management Act of 1976 (43 U.S.C. 1733(a), 43 CFR 8360.0-7, and 43 CFR 8364.1), the BLM will enforce the following closure within the are described above: all public, whether motorized, on foot, or otherwise, is prohibited.

Exemptions to Closure: The following persons are exempt from this action: Any Federal, State, local, and/or military employee acting within the scope of their official duties; members of any medical, organized rescue, or firefighting force in performance of an official duty; and any person authorized, in writing, by the BLM authorized officer.

Enforcement: Any person who violates the temporary closure may be tried before a United States magistrate and fined in accordance with 18 U.S.C. 3571, imprisoned no more than 12 months under 43 U.S.C. 1733(a) and 43 CFR 8360.0-7, or both. In accordance with 43 CFR 8365.1-7, State or local officials may also impose penalties for violations of Arizona law.

Authority: 43 CFR 8364.1.

Lorraine M. Christian,
Arizona Strip Field Manager.

[FR Doc. 2021-07958 Filed 4-16-21; 8:45 am]

BILLING CODE 4310-32-P